INTERNATIONAL TRADE COMMISSION

[Investigation Nos. 731-TA-1112-1113 (Final)]

Glycine From Japan and Korea

Determinations

On the basis of the record ¹ developed in the subject investigations, the United States International Trade Commission (Commission) determines,² pursuant to section 735(b) of the Tariff Act of 1930 (19 U.S.C. 1673d(b)) (the Act), that an industry in the United States is not materially injured or threatened with material injury, and the establishment of an industry in the United States is not materially retarded, by reason of imports from Japan and Korea of glycine, provided for in subheading 2922.49.4020 of the Harmonized Tariff Schedule of the United States,³ that have been found by the Department of Commerce (Commerce) to be sold in the United States at less than fair value (LTFV).

¹ The record is defined in sec. 207.2(f) of the Commission's Rules of Practice and Procedure (19 CFR 207.2(f)).

² Commissioners Irving A. Williamson and Dean A. Pinkert dissenting.

³ The imported products subject to investigation also include sodium glycinate which is provided for in subheading 2922.49.80 of the HTS.

Background

The Commission instituted these investigations effective March 30, 2007, following receipt of a petition filed with the Commission and Commerce by GEO Specialty Chemicals, Inc., Lafayette, IN. The final phase of the investigations was scheduled by the Commission following notification of preliminary determinations by Commerce that imports of glycine from Japan and Korea were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of September 28, 2007 (72 FR 55247). The hearing was held in Washington, DC, on November 28, 2007, and all persons who requested the opportunity were permitted to appear in person or by counsel.

The Commission transmitted its determination in these investigations to the Secretary of Commerce on January 11, 2008. The views of the Commission are contained in USITC Publication 3980 (January 2008), entitled Glycine from Japan and Korea: Investigation Nos. 731-TA-1112-1113 (Final).

Issued: January 11, 2008.
By order of the Commission.
Marilyn R. Abbott,
Secretary to the Commission.

[FR Doc. E8-862 Filed 1-17-08; 8:45 am]

BILLING CODE 7020-02-P